ENVIRONMENTAL PROTECTION AGENCY

40 CFR Part 81

[EPA-R03-OAR-2025-1777; FRL-12985-01-R3]

Air Plan Approval; Pennsylvania; Redesignation Request for the Allegheny County Area for the 2012 Annual Fine Particulate Matter Standard

AGENCY: Environmental Protection Agency (EPA).

ACTION: Proposed rule.

SUMMARY: The Environmental Protection Agency (EPA) is proposing to approve a request from the Commonwealth of Pennsylvania to redesignate the Allegheny County, Pennsylvania nonattainment area (Allegheny County Area) to attainment for the 2012 annual fine particulate matter (PM2.5) national ambient air quality standard (NAAQS or standard). The EPA has already approved, as a revision to the Pennsylvania state implementation plan (SIP), a maintenance plan that demonstrates maintenance of the 2012 annual PM2.5 NAAQS through 2035 in the Allegheny County Area. The redesignation request was submitted by the Commonwealth of Pennsylvania Department of Environmental Protection (PADEP or Pennsylvania) on behalf of the Allegheny County Health Department (ACHD). This action is being taken under the Clean Air Act (CAA).

DATES: Written comments must be received on or before December 22, 2025.

ADDRESSES: Submit your comments, identified by Docket ID No. EPA-R03-OAR-2025-1777 at www.regulations.gov, or via email to gordon.mike@epa.gov. For comments submitted at Regulations.gov, follow the online instructions for submitting comments. Once submitted, comments cannot be edited or removed from Regulations.gov. For either manner of submission, the EPA may publish any comment received to its public docket. Do not submit electronically any information you consider to be confidential business information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, please contact the person identified in the FOR FURTHER INFORMATION CONTACT section. For the full EPA public comment policy, information about CBI or multimedia submissions, and general guidance on making effective comments, please visit www.epa.gov/dockets/commenting-epa-dockets.

FOR FURTHER INFORMATION CONTACT: Ian Neiswinter, Planning & Implementation Branch (3AD30), Air & Radiation Division, U.S. Environmental Protection Agency, Region III, 1600 John F. Kennedy Boulevard, Philadelphia, Pennsylvania 19103. The telephone number is (215) 814-2011. Mr. Neiswinter can also be reached via electronic mail at neiswinter.ian@epa.gov.

SUPPLEMENTARY INFORMATION: Throughout this document, wherever “we,” “us,” or “our” are used, it is intended to refer to the EPA.

I. What action is the EPA proposing?

In this action, the EPA is proposing to approve Pennsylvania's September 4, 2025 redesignation request as satisfying the requirements of CAA section 107(d)(3)(E) and redesignate the Allegheny County Area ¹ from nonattainment to attainment of the 2012 annual PM2.5 NAAQS. The EPA has already approved, as a revision to Pennsylvania's SIP, a maintenance plan that demonstrates maintenance of the 2012 annual PM2.5 NAAQS through 2035 in the Allegheny County Area. See 90 FR 34770 (July 24, 2025).

¹ The Allegheny County Area is comprised of all municipalities within Allegheny County, Pennsylvania. The table listed at 40 Code of Federal Regulations (CFR) 81.339 defines NAAQS area designations within Pennsylvania.

II. Background

Fine particulate pollution can be emitted directly from a source (primary PM2.5) or formed secondarily through chemical reactions in the atmosphere involving precursor pollutants emitted from a variety of sources. The main precursors of secondary PM2.5 are sulfur dioxide (SO2), nitrogen oxides (NOX), ammonia (NH3), and volatile organic compounds (VOCs).² Sulfates are a type of secondary particulate formed from SO2 emissions from power plants and industrial facilities. Nitrates, another common type of secondary particulate, are formed from combustion emissions of NOX from power plants, mobile sources, and other combustion sources.

² See 81 FR 58010 (August 24, 2016).

On January 15, 2013 (78 FR 3086), the EPA promulgated a revised primary annual PM2.5 NAAQS to provide increased protection of public health from fine particle pollution. In that action, the EPA strengthened the primary annual PM2.5 standard from 15.0 micrograms per cubic meter (µg/m³) to 12.0 µg/m³, which is attained when the 3-year average of the annual arithmetic means does not exceed 12.0 µg/m³. On January 15, 2015 (80 FR 2206), the EPA published air quality designations for the 2012 annual PM2.5 NAAQS. In that action, the EPA designated all municipalities in Allegheny County, Pennsylvania (Allegheny County Area) as one moderate nonattainment area for the 2012 annual PM2.5 NAAQS. See 40 CFR 81.339.

On March 16, 2022 (87 FR 14799), the EPA determined that the Allegheny County Area had clean data and attained the 2012 annual PM2.5 NAAQS based on certified air quality data from 2018-2020. That action suspended the requirement for the Allegheny County Area to submit an attainment demonstration and associated reasonably available control measures (RACM), including reasonably available control technology (RACT), a reasonable further progress (RFP) plan, and contingency measures for failure to attain or meet RFP. These requirements are suspended for so long as the Allegheny County Area continues to attain the standard. When the Area is redesignated to attainment, these requirements are permanently discharged. Nonetheless, the EPA approved most elements of Pennsylvania's comprehensive plan to ensure timely attainment of the 2012 annual PM2.5 NAAQS for the Allegheny County Area (Allegheny County PM2.5 Attainment Plan), including an attainment demonstration, a RACM/RACT analysis, and an RFP analysis, along with a 2011 base year emissions inventory, a particulate matter precursor contribution demonstration, quantitative milestones to ensure timely attainment, and a motor vehicle emissions budget (MVEB) specific to the 2012 annual PM2.5 NAAQS.³ On May 19, 2023 (88 FR 32117), the EPA determined that the Allegheny County Area had attained the 2012 annual PM2.5 NAAQS by the applicable attainment date based on certified air quality data from 2019-2021.

³ See 86 FR 26388 (May 14, 2021).

On July 24, 2025 (90 FR 34770), the EPA approved, as a revision to the Pennsylvania SIP, a maintenance plan that demonstrates maintenance of the 2012 annual PM2.5 NAAQS through 2035 in the Allegheny County Area.

III. The EPA's Requirements for Redesignation to Attainment

The CAA provides the requirements for redesignating a nonattainment area to attainment. Specifically, section 107(d)(3)(E) of the CAA allows for redesignation provided that: (1) the EPA determines that the area has attained the applicable NAAQS; (2) the EPA has fully approved the applicable implementation plan for the area under section 110(k); (3) the EPA determines that the improvement in air quality is due to permanent and enforceable reductions in emissions resulting from implementation of the applicable SIP and applicable Federal air pollutant control regulations and other permanent and enforceable reductions; (4) the EPA has fully approved a maintenance plan for the area as meeting the requirements of section 175A of the CAA; and (5) the state containing such area has met all requirements applicable to the area under section 110 and part D of the CAA. Each of these requirements are discussed in section IV of this document.

The EPA has provided guidance on redesignations in the “SIPs; General Preamble for the Implementation of title I of the CAA Amendments of 1990,” (the General Preamble) ⁴ and has provided further guidance on processing redesignation requests in the following documents: (1) “Procedures for Processing Requests to Redesignate Areas to Attainment,” Memorandum from John Calcagni, Director, Air Quality Management Division, September 4, 1992 (hereafter referred to as the 1992 Calcagni Memorandum or Calcagni Memo); (2) “SIP Actions Submitted in Response to CAA Deadlines,” Memorandum from John Calcagni, Director, Air Quality Management Division, October 28, 1992; and (3) “Part D New Source Review (Part D NSR) Requirements for Areas Requesting Redesignation to Attainment,” Memorandum from Mary D. Nichols, Assistant Administrator for Air and Radiation, October 14, 1994. These documents are included in the docket for this proposed action.

⁴ See 57 FR 13498 (April 16, 1992).

IV. The EPA's Analysis of Pennsylvania's Submittal

The EPA is proposing to redesignate the Allegheny County Area to attainment for the 2012 annual PM2.5 NAAQS. The EPA's proposed approval of the state's redesignation request is based upon the EPA's determination that the Allegheny County Area continues to attain the 2012 annual PM2.5 NAAQS and that all other redesignation criteria have been met for the Allegheny County Area. The following is description of how Pennsylvania's September 4, 2025 submission satisfies the requirements of section 107(d)(3)(E) of the CAA for the 2012 annual PM2.5 NAAQS.

A. Attainment

To redesignate an area from nonattainment to attainment, the CAA requires the EPA to determine that the area has attained the applicable NAAQS (CAA section 107(d)(3)(E)(i)). Under the EPA's regulations at 40 CFR 50.18 and 40 CFR part 50, appendix N, the 2012 annual PM2.5 NAAQS is met when the annual PM2.5 NAAQS design value (DV) is less than or equal to 12.0 µg/m³ at all monitoring sites in the area.⁵ The relevant data must be collected and quality-assured in accordance with 40 CFR part 58 and recorded in the EPA Air Quality System (AQS) database.

⁵ The annual PM2.5 NAAQS design value (DV) is the 3-year average of PM2.5 annual mean mass concentrations. Three years of valid annual means are required to produce a valid annual PM2.5 NAAQS design value. A year meets data completeness requirements when at least 75 percent of the scheduled sampling days for each quarter have valid data. See 40 CFR part 50, appendix N.

As referenced previously, on March 16, 2022 (87 FR 14799), the EPA determined that the Allegheny County Area had clean data and attained the 2012 annual PM2.5 NAAQS based on certified air quality data from 2018-2020. Additionally, on May 19, 2023 (88 FR 32117), the EPA determined that the Allegheny County Area had attained the 2012 annual PM2.5 NAAQS by the applicable attainment date based on certified air quality data from 2019-2021. The basis and effect of these determinations of attainment for the 2012 annual PM2.5 NAAQS were discussed in the publications of the proposed and final rules which determined the Allegheny County Area attained the 2012 PM2.5 NAAQS.⁶

⁶ See notice of the proposed rulemakings at 86 FR 49497 (September 3, 2021) and 88 FR 8249 (February 8, 2023).

In addition, the EPA has reviewed the most recent ambient air quality PM2.5 monitoring data in the Allegheny County Area consistent with the requirements contained in 40 CFR part 58 and recorded in the EPA's AQS. The quality-assured, quality-controlled, and state-certified 2018 to 2024 PM2.5 air quality data show that the Allegheny County Area attained and continues to attain the 2012 annual PM2.5 NAAQS. Therefore, the EPA is proposing to determine that the Allegheny County Area is attaining the 2012 annual PM2.5 NAAQS. This proposed determination is based on the most recent three years of complete, quality-assured, quality-controlled, and certified data, which is for the 2022-2024 monitoring period. The monitoring data is summarized in Tables 1 and 2, in this document, and is also included in the docket for this rulemaking available online at www.regulations.gov, Docket ID: EPA-R03-OAR-2025-1777.

Table 1—2018 to 2024 Annual Weighted Means for the Allegheny County Area for the 2012 Annual PM2.5 NAAQS (µg/m³)
Monitor name | Monitor ID | 2018 | 2019 | 2020 | 2021 | 2022 | 2023 | 2024
Avalon | 420030002 | 9.6 | 9.9 | 8.6 | 9.8 | 8.2 | 9.6 | 7.0
Lawrenceville | 420030008 | 9.0 | 9.0 | 7.7 | 9.0 | 7.6 | 9.7 | 7.2
Liberty | 420030064 | 11.5 | 12.2 | 9.8 | 11.8 | 11.0 | 12.0 | 9.0
South Fayette | 420030067 | 8.1 | 7.7 | 6.6 | 7.8 | 6.5 | 8.3 | 6.0
Harrison | 420031008 | 9.3 | 8.6 | 7.3 | 8.2 | 7.1 | 8.9 | 6.6
North Braddock | 420031301 | 10.2 | 9.9 | 9.0 | 10.7 | 8.5 | 10.7 | 8.4
Parkway East | 420031376 | 10.3 | 10.8 | 9.0 | 10.4 | 8.5 | 9.6 | 6.9
Clairton | 420033007 | 8.8 | 7.9 | 7.3 | 9.2 | 7.1 | 9.0 | 7.0

Table 2—Design Values for the Allegheny County Area for the 2012 Annual PM2.5 NAAQS (µg/m³) for Monitoring Periods 2018-2020 Through 2022-2024
Monitor name | Monitor ID | 2018-2020 | 2019-2021 | 2020-2022 | 2021-2023 | 2022-2024
Avalon | 420030002 | 9.4 | 9.4 | 8.9 | 9.2 | 8.3
Lawrenceville | 420030008 | 8.5 | 8.5 | 8.1 | 8.7 | 8.1
Liberty | 420030064 | 11.1 | 11.2 | 10.9 | 11.6 | 10.6
South Fayette | 420030067 | 7.4 | 7.3 | 7.0 | 7.5 | 6.9
Harrison | 420031008 | 8.4 | 8.1 | 7.5 | 8.1 | 7.5
North Braddock | 420031301 | 9.7 | 9.9 | 9.4 | 10.0 | 9.2
Parkway East | 420031376 | 10.0 | 10.0 | 9.3 | 9.5 | 8.3
Clairton | 420033007 | 8.0 | 8.1 | 7.9 | 8.4 | 7.7

B. The Area Has Met All Applicable Requirements Under Section 110 and Part D of the CAA and Has a Fully Approved SIP Under Section 110(k)

In accordance with section 107(d)(3)(E)(v) of the CAA, Pennsylvania must meet all the requirements applicable to the Allegheny County Area under section 110 of the CAA (general SIP requirements) and part D of Title I of the CAA (SIP requirements for nonattainment areas). Under section 107(d)(3)(E)(ii) of the CAA, Pennsylvania's SIP revisions for the 2012 annual PM2.5 NAAQS for the Allegheny County Area must be fully approved under section 110(k) of the CAA. Section 110(k) of the CAA sets out the requirements for the EPA's actions on SIP revision submittals. The September 4, 1992 Calcagni memorandum describes EPA's interpretation of CAA section 107(d)(3)(E) with respect to the timing of applicable requirements. Under this interpretation, to qualify for redesignation, states requesting redesignation to attainment must meet only the relevant CAA requirements that come due prior to the submittal of a complete redesignation request. See also Shapiro memorandum, September 17, 1993, and 60 FR 12459, 12465 and 12466, (March 7, 1995) (redesignation of Detroit-Ann Arbor). Applicable requirements of the CAA that come due subsequent to the area's submittal of a complete redesignation request remain applicable until a redesignation is approved but are not required as a prerequisite to redesignation. See CAA section 175A(c). Sierra Club v. EPA, 375 F .3d 537 (7th Cir. 2004). See also 68 FR 25418, 25424 and 25427 (May 12, 2003) (redesignation of the St. Louis/East St. Louis area to attainment of the 1-hour ozone NAAQS). In the case of the Allegheny County Area, the base year emissions inventory was due prior to Pennsylvania's submittal of the complete redesignation request for the Allegheny County Area. Therefore, the base year inventory is an applicable requirement. The attainment plan, including RACM/RACT, and contingency measures for failure to attain or meet RFP, were also due prior to Pennsylvania's submittal of a complete redesignation request for the Allegheny County Area. However, as referenced previously and described in detail later in this rulemaking, a clean data determination for the Allegheny County Area suspended these requirements for as long as the Allegheny County Area continues to meet the 2012 annual PM2.5 NAAQS. When the Allegheny County Area is redesignated to attainment, these requirements are permanently discharged.

a. Section 110 General SIP Requirements

Section 110(a)(2) of title I of the CAA delineates the general requirements for a SIP, which include enforceable emissions limitations and other control measures, means, or techniques, provisions for the establishment and operation of appropriate devices necessary to collect data on ambient air quality, and programs to enforce the limitations. The general SIP elements and requirements set forth in CAA section 110(a)(2), which are commonly referred to as “infrastructure SIPs,” include, but are not limited to, the following: (1) submittal of a SIP that has been adopted by the state after reasonable public notice and hearing; (2) provisions for establishment and operation of appropriate procedures needed to monitor ambient air quality; (3) implementation of a minor source permit program and provisions for the implementation of part C requirements (PSD); (4) provisions for the implementation of part D requirements for nonattainment new source review (referred to as “part D NNSR,” “NNSR,” “nonattainment NSR,” or “NSR”) permit programs; (5) provisions for air pollution modeling; and (6) provisions for public and local agency participation in planning and emission control rule development.

CAA section 110(a)(2)(D) requires that SIPs contain certain measures to prevent sources in a state from significantly contributing to air quality problems in another state; the portion of a state's SIP that include these measures is known as an interstate transport SIP. However, these CAA section 110(a)(2)(D) requirements apply to a state and are not linked with a particular nonattainment area's designation and classification in that state. The interstate transport SIP submittal requirements, where applicable, continue to apply to a state regardless of the designation of any one area in the state. Thus, the EPA has determined that these requirements are not applicable requirements for purposes of redesignation. Instead, the EPA has determined that the requirements linked with a particular nonattainment area's designation and classifications are the relevant measures, i.e., the requirements that must be met for the EPA to redesignate an area. In addition, the EPA has determined that the other CAA section 110(a)(2) elements not connected with nonattainment plan submissions and not linked with an area's attainment status are not applicable requirements for purposes of redesignation because the area will still be subject to these requirements after it is redesignated. The EPA concludes that the CAA section 110(a)(2) and part D requirements, which are linked with a particular area's designation and classification, are the relevant measures to evaluate in reviewing a redesignation request, and that CAA section 110(a)(2) elements not linked to the area's nonattainment status are not applicable for purposes of redesignation. The EPA has applied this interpretation consistently in many redesignations.⁷

⁷ See, e.g., 81 FR 4420 (July 17, 2006) (final redesignation for the Sullivan County, Tennessee area); 79 FR 43655 (July 28, 2014) (final redesignation for Bellefontaine, Ohio lead nonattainment area); 61 FR 53174 through 53176 (October 10, 1996) and 62 FR 24826 (May 7 1997) (proposed and final redesignation of Reading, Pennsylvania ozone nonattainment area); 61 FR 20458 (May 7 1996) (final redesignation for Cleveland-Akron Lorain, Ohio ozone nonattainment area); 60 FR 62748 (December 7, 1995) (final redesignation of Tampa, Florida ozone nonattainment area); See also 65 FR 37879, 37890, (June 19, 2000) (discussing this issue in final redesignation of Cincinnati, Ohio 1-hour ozone nonattainment area); and 66 FR 50399 (October 19, 2001) (final redesignation of Pittsburgh, Pennsylvania 1-hour ozone nonattainment area).

The EPA has reviewed the Pennsylvania SIP and has concluded that it meets the general SIP requirements under section 110(a)(2) of the CAA to the extent they are applicable for purposes of redesignation. The EPA has previously approved provisions of Pennsylvania's SIP addressing CAA section 110(a)(2) requirements, including provisions addressing PM2.5.⁸ These requirements are, however, statewide requirements that are not linked to the PM2.5 nonattainment status of the Allegheny County Area. Therefore, the EPA proposes to determine that Pennsylvania has met all general SIP requirements for the Allegheny County Area that are applicable for purposes of redesignation under section 110 of the CAA.

⁸ See 80 FR 26461 (May 8, 2015) (approving infrastructure SIP submittal for the 2012 PM2.5 NAAQS).

b. Part D Requirements

On August 24, 2016 (81 FR 58010), EPA promulgated the Fine Particulate Matter National Ambient Air Quality Standards; State Implementation Plan Requirements rule.⁹ This rule implements the requirements of part D of title I of the CAA for areas designated nonattainment for any PM2.5 NAAQS. Subparts 1 and 4 of part D, title 1 of the CAA contain air quality planning requirements for PM2.5 nonattainment areas. Subpart 1 contains general requirements for all nonattainment areas of any pollutant, including PM2.5, governed by a NAAQS. Subpart 1 requirements include, among other things, provisions for RACM, RFP, emissions inventories, contingency measures, transportation conformity and general conformity. Subpart 4 contains specific planning and scheduling requirements for PM2.5 nonattainment areas. The requirements in CAA section 189(a), (c), (e) apply specifically to Moderate PM2.5 nonattainment areas and include an approved permit program for construction of new and modified major stationary sources, provisions for RACM, an attainment demonstration, quantitative milestones demonstrating RFP toward attainment by the applicable attainment date, and provisions to ensure that the control requirements applicable to major stationary sources of PM2.5 also apply to PM2.5 precursors, except where the Administrator has determined that such sources do not contribute significantly to PM2.5 levels that exceed the NAAQS in the area. The applicability of these requirements to this action are addressed in the following sections.

⁹ See 81 FR 58010 (August 24, 2016). See also 40 CFR part 51, subpart Z.

c. Subpart 1 Requirements

Subpart 1 sets forth the basic nonattainment plan requirements applicable to PM2.5 nonattainment areas. Under CAA section 172, states with nonattainment areas must submit plans providing for timely attainment and must meet a variety of other requirements. The EPA's longstanding interpretation of the nonattainment planning requirements of CAA section 172 is that once an area is attaining the NAAQS, those requirements are not “applicable” for purposes of CAA section 107(d)(3)(E)(ii) and therefore need not be approved into the SIP before the EPA can redesignate the area. In the 1992 General Preamble for Implementation of Title I, the EPA set forth its interpretation of applicable requirements for purposes of evaluating redesignation requests when an area is attaining a standard.¹⁰ The EPA noted that the requirements for RFP and other measures designed to provide for attainment do not apply in evaluating redesignation requests because those nonattainment planning requirements “have no meaning” for an area that has already attained the standard.¹¹ This interpretation was also set forth in the 1992 Calcagni Memorandum. The EPA's understanding of CAA section 172 also forms the basis of its Clean Data Policy, which was articulated with regard to PM2.5 in 40 CFR 51.1015(a), and suspends a state's obligation to submit most of the attainment planning requirements that would otherwise apply, including an attainment demonstration and planning SIPs to provide for RFP, RACM, and contingency measures under CAA section 172(c)(9).¹² Courts have upheld the EPA's interpretation of CAA section 172(c)(1)'s “reasonably available” control measures and control technology as meaning only those controls that advance attainment, which precludes the need to require additional measures where an area is already attaining.¹³

¹⁰ See 57 FR 13498, 13564 (April 16, 1992).

¹¹ Id.

¹² This regulation was promulgated as part of the 1997 PM2.5 NAAQS implementation rule that was subsequently challenged and remanded in NRDC v. EPA, 706 F.3d 428 (D.C. Cir. 2013). However, the Clean Data Policy portion of the implementation rule was not at issue in that case.

¹³ See NRDC v. EPA, 571 F.3d 1245, 1252 (D.C. Cir. 2009); Sierra Club v. EPA, 294 F.3d 155, 162 (D.C. Cir. 2002); Sierra Club v. EPA, 314 F.3d 735, 744 (5th Cir. 2002).

As stated previously, the EPA determined that the Allegheny County Area had clean data for the 2012 PM2.5 NAAQS and attained the NAAQS by the applicable attainment date.¹⁴ Furthermore, as shown in section IV.A of this document, the Allegheny County Area continues to attain the 2012 annual PM2.5 NAAQS. Therefore, because attainment has been reached for the 2012 annual PM2.5 NAAQS in the Allegheny County Area, no additional measures are needed to provide for attainment of these standards, and the CAA section 172(c)(1) requirements for an attainment demonstration and RACM are no longer considered to be applicable for purposes of redesignation as long as the Allegheny County Area continues to attain each standard until redesignation.¹⁵ Nonetheless, as stated previously, the EPA has approved most elements of Pennsylvania's Allegheny County PM2.5 Attainment Plan, including an attainment demonstration and RACM analysis.¹⁶

¹⁴ See 87 FR 14799 (March 16, 2022) (Allegheny County Area's clean data determination for the 2012 annual PM2.5 NAAQS) and 88 FR 32117 (May 19, 2023) (Allegheny County Area's determination of attainment by the attainment date for the 2012 annual PM2.5 NAAQS).

¹⁵ Id.

¹⁶ See 86 FR 26388 (May 14, 2021).

Section 172(c)(2)'s of the CAA requirement that nonattainment plans contain provisions promoting reasonable further progress toward attainment is also not relevant for purposes of redesignation because the EPA has determined that the Allegheny County Area has monitored attainment of the 2012 annual PM2.5 NAAQS. As stated previously, the EPA has approved most elements of Pennsylvania's Allegheny County PM2.5 Attainment Plan, including the RFP demonstration as meeting the requirements of CAA section 172(c)(2).¹⁷ In addition, because the Allegheny County Area has attained the 2012 annual PM2.5 NAAQS and is no longer subject to an RFP requirement, the requirement to submit the CAA section 172(c)(9) contingency measures is not applicable for purposes of redesignation. Section 172(c)(6) of the CAA requires the SIP to contain control measures necessary to provide for attainment of the NAAQS. Because attainment has been reached, no additional measures are needed to provide for attainment.

¹⁷ Id.

The requirement under section 172(c)(3) of the CAA was not suspended by the EPA's clean data determination for the 2012 annual PM2.5 NAAQS. Section 172(c)(3) of the CAA requires submission and approval of a comprehensive, accurate, and current inventory of actual emissions. For purposes of the PM2.5 NAAQS, this emissions inventory should address not only direct emissions of PM2.5, but also emissions of all precursors with the potential to participate in PM2.5 formation, i.e., SO2, NOX, VOC and NH3. To satisfy the CAA section 172(c)(3) requirement, on May 14, 2021 (86 FR 26388), the EPA approved the 2011 base year emissions inventory for the 2012 annual PM2.5 NAAQS for the Allegheny County Area.

Section 172(c)(4) of the CAA requires the identification and quantification of allowable emissions for major new and modified stationary sources in an area, and CAA section 172(c)(5) requires source permits for the construction and operation of new and modified major stationary sources anywhere in the nonattainment area. The EPA has determined that, since PSD requirements will apply after redesignation, areas being redesignated need not comply with the requirement that a nonattainment NSR program be approved prior to redesignation, provided that the area demonstrates maintenance of the NAAQS without a nonattainment NSR program. A more detailed rationale for this view is described in a memorandum from Mary Nichols, Assistant Administrator for Air and Radiation, dated October 14, 1994, entitled, “Part D New Source Review Requirements for Areas Requesting Redesignation to Attainment.” Nevertheless, Pennsylvania currently has an approved NSR program codified in Pennsylvania's regulations at 25 Pa. Code Chapter 127.201, et. seq.¹⁸ Pennsylvania's regulations were incorporated by reference into ACHD's nonattainment new source review regulations for Allegheny County on March 30, 2015 (80 FR 16568). A revision to the NNSR regulations for Allegheny County for the 2012 annual PM2.5 NAAQS was approved into the Pennsylvania SIP on June 15, 2020 (85 FR 36161). However, ACHD's PSD program in section 2102.07 of Article XXI of Allegheny County Health Department's Rules and Regulations for Air Pollution Control for PM2.5 will become effective in the Allegheny County Area upon redesignation to attainment. Section 2102.07 of Article XXI adopted in its entirety, and incorporated by reference, the PSD requirements of 40 CFR part 52.¹⁹ The EPA also previously approved Pennsylvania's PSD program required under section 110 of the CAA.²⁰

¹⁸ See 77 FR 41276 (July 13, 2012) (approving NSR program into the SIP).

¹⁹ See 78 FR 13493 (February 28, 2013) (most recent PSD revision for ACHD's portion of the Pennsylvania SIP).

²⁰ See 49 FR 33127 (August 21, 1984).

Section 172(c)(7) of the CAA requires the SIP to meet the applicable provisions of CAA section 110(a)(2). As noted previously, the EPA believes the Pennsylvania SIP meets the requirements of CAA section 110(a)(2) that are applicable for purposes of redesignation, which have been identified as CAA section 172(c)(3) through (5).

Section 175A of the CAA requires a state seeking redesignation to attainment to submit a SIP revision to provide for the maintenance of the NAAQS in the area “for at least 10 years after the redesignation.” On July 24, 2025 (90 FR 34770), the EPA approved, as a revision to the Pennsylvania SIP and meeting the requirements of CAA section 175A, a maintenance plan that demonstrates maintenance of the 2012 annual PM2.5 NAAQS through 2035 in the Allegheny County Area.

Section 176(c) of the CAA requires states to establish criteria and procedures to ensure that federally supported or funded projects conform to the air quality planning goals in the applicable SIP. The requirement to determine conformity applies to transportation plans, programs, and projects that are developed, funded, or approved under title 23 of the United States Code (U.S.C.) and the Federal Transit Act (transportation conformity) as well as to all other federally supported or funded projects (general conformity). State transportation conformity SIP revisions must be consistent with Federal conformity regulations relating to consultation, enforcement, and enforceability which the EPA promulgated pursuant to its authority under the CAA. The EPA interprets the conformity SIP requirements as not applying for purposes of evaluating a redesignation request under CAA section 107(d) because state conformity rules are still required after redesignation, and Federal conformity rules apply where state rules have not been approved.²¹ Nonetheless, the EPA approved Pennsylvania's transportation conformity SIP requirements on April 29, 2009 (74 FR 19451).

²¹ See Wall v. EPA, 265 F. 3d 426 (6th Cir. 2001) (upholding this interpretation) and 60 FR 62748 (December 7, 1995) (discussing Tampa, Florida).

The EPA concludes that Pennsylvania has met the requirements of subpart 1 of part D relevant for redesignation. Specifically, pursuant to section 110(k) of the CAA, the EPA has approved Pennsylvania's 2011 base year inventory and maintenance plan through 2035 for the Allegheny County Area into the Pennsylvania SIP.

d. Subpart 4 Requirements

A January 4, 2013, U.S. Court of Appeals for the District of Columbia Circuit decision ²² stated that the EPA must implement PM2.5 NAAQS pursuant to subpart 4 of part D of the CAA, which contains provisions specifically concerning PM10 nonattainment areas. Section 189 in subpart 4 of the CAA sets out the requirements for PM10 and PM2.5 nonattainment areas. Section 189(a) of the CAA contains the SIP revision requirements for moderate PM10 and PM2.5 nonattainment areas, including the requirements for the state to submit an attainment demonstration, RACM (including (RACT) for stationary sources). Section 189(c) of the CAA contains requirements for RFP, quantitative milestones and quantitative milestone reports.

²² Natural Resources Defense Council v. EPA, 706 F. 3d 428 (D.C. Cir. 2013).

As with the requirements of CAA section 172(c), explained previously in this document, the requirements of CAA section 189(a) and (c) are no longer considered to be applicable for purposes of redesignation as long as the Area continues to attain the standard. Because attainment has been reached, no additional measures are needed to provide for attainment. The EPA's clean data determination for the Allegheny County Area suspended the requirements for the state to submit an attainment demonstration, RACM and RACT, RFP, quantitative milestones, and quantitative milestone reports until such time as the Area is redesignated to attainment, after which such requirements are permanently discharged.²³ Nonetheless, as stated previously, the EPA has approved most elements of Pennsylvania's Allegheny County PM2.5 Attainment Plan, including an attainment demonstration (CAA section 189(a)(1)(B)), RACM analysis (CAA section 189(a)(1)(C)), quantitative milestones to ensure timely attainment (CAA section 189(c)), and a particulate matter precursor demonstration (CAA section 189(e)).²⁴ Therefore, the EPA concludes that ACHD has met the requirements of subpart 4 of part D relevant for redesignation.

²³ See 87 FR 14799 (March 16, 2022) (Allegheny County Area's clean data determination for the 2012 annual PM2.5 NAAQS).

²⁴ See 86 FR 26388 (May 14, 2021).

For these reasons, the EPA proposes to find that ACHD has satisfied all applicable requirements for purposes of redesignation of the Allegheny County Area under section 110 and part D of the CAA. Specifically, pursuant to section 110(k) of the CAA, the EPA has approved Pennsylvania's 2011 base year inventory and maintenance plan through 2035 for the Allegheny County Area into the Pennsylvania SIP.

e. The Allegheny County Area Has a Fully Approved Applicable SIP Under Section 110(k) of the CAA

At various times, ACHD and PADEP have submitted, and the EPA has approved, provisions addressing the various SIP elements applicable for the 2012 annual PM2.5 NAAQS. Indicated above, the EPA believes that the section 110 of the CAA elements not connected with nonattainment plan submissions and not linked to an area's nonattainment status are not applicable requirements for purposes of redesignation. The EPA may rely on prior SIP approvals in approving a redesignation request (see the Calcagni Memo at page 3; Southwestern Pennsylvania Growth Alliance v. Browner, 144 F.3d 984, 989-990 (6th Cir. 1998); Wall v. EPA, 265 F.3d 426), plus any additional measures it may approve in conjunction with a redesignation action (see 68 FR 25426 (May 12, 2003) and citations therein).

As discussed previously, the EPA has fully approved Pennsylvania's SIP for the Allegheny County Area under section 110(k) for all requirements applicable under CAA section 110 general SIP requirements and subparts 1 and 4 of part D for purposes of redesignation to attainment for the 2012 annual PM2.5 NAAQS. The EPA has previously approved Pennsylvania's 2011 base year emissions inventory for the Allegheny County Area as meeting the requirement of section 172(c)(3) of the CAA.²⁵ The EPA has also previously approved Pennsylvania's maintenance plan for the Allegheny County Area for the 2012 PM2.5 NAAQS through 2035 as meeting the requirement of section 175A of the CAA.²⁶ Lastly, the EPA has previously approved Pennsylvania's and ACHD's PSD programs required under section 110 of the CAA.²⁷ The EPA has determined that there are no outstanding SIP elements required for the Allegheny County Area for purposes of redesignation to attainment for the 2012 annual PM2.5 NAAQS. No Allegheny County Area SIP provisions are currently disapproved, conditionally approved, or partially approved. Therefore, the Administrator has fully approved the applicable requirements for the Allegheny County Area under CAA section 110(k) in accordance with CAA section 107(d)(3)(E)(ii).

²⁵ See 86 FR 26388 (May 14, 2021).

²⁶ See 90 FR 34770 (July 24, 2025).

²⁷ See 49 FR 33127 (August 21, 1984) (Pennsylvania PSD program) and 78 FR 13493 (February 28, 2013) (most recent PSD revision for ACHD's portion of the Pennsylvania SIP).

C. Permanent and Enforceable Reductions in Emissions

For redesignating a nonattainment area to attainment, CAA section 107(d)(3)(E)(iii) requires the EPA to determine that the air quality improvement in the area is due to permanent and enforceable reductions in emissions resulting from implementation of the SIP and applicable Federal air pollution control regulations and other permanent and enforceable reductions. For the 2012 annual PM2.5 NAAQS, ACHD has calculated the change in emissions between the 2011 base year and a 2017 control year for the Allegheny County Area. ACHD selected 2017 as the control year as it is the year selected for the attainment emission inventory in the maintenance plan.²⁸ The attainment inventory identifies the level of emissions in an area that is sufficient to attain the NAAQS. A summary of the emissions reductions in tons per year (tpy) of PM2.5, NOX, SO2, VOC, and NH3 from the base year to the control year in the Allegheny County Area, provided by ACHD, is shown in tables 3 and 4, in this document.²⁹

²⁸ See 90 FR 34770 (July 24, 2025).

²⁹ See Id. for further information regarding the emission inventory methodology and emission data by category totals for the Allegheny County Area.

Table 3—Allegheny County Area Emissions Reductions, 2012 Annual PM2.5 NAAQS
[tons/year]
Allegheny County Area Totals (2012 Annual PM2.5 NAAQS) | PM2.5 | PM2.5 (filterable) | PM2.5 (condensable) | PM10 | SO2 | NOX | VOC | NH3
2011 Base Year | 5,829 | 4,185 | 1,644 | 9,061 | 15,080 | 35,460 | 29,972 | 1,141
2017 Control Year | 4,437 | 3,207 | 1,230 | 6,728 | 5,033 | 23,273 | 25,383 | 1,238
Reduction, Base to Control Year | −1,392 | −978 | −414 | −2,333 | −10,047 | −12,187 | −4,589 | 97
Percent Change | −24% | −23% | −25% | −26% | −67% | −34% | −15% | 9%

From the 2011 base year to the 2017 control year for the 2012 annual PM2.5 NAAQS, overall PM2.5 emissions were reduced by 24%. NH3 was the only pollutant that did not show a reduction in the Area. However, NH3 was found to be an insignificant precursor for attainment in the Allegheny County Area.³⁰ The reduction in emissions and the corresponding improvement in air quality in the Allegheny County Area from 2011 to 2017 for the 2012 annual PM2.5 NAAQS can be attributed to a number of control measures that have been implemented in the Allegheny County Area and contributing areas in recent years.

³⁰ See EPA's proposed approval of certain elements of Allegheny County's 2012 PM2.5 attainment plan, including the precursor demonstration discussion, at 85 FR 35852 (May 14, 2021).

ACHD identified implemented source controls at the United States Steel Corporation (USS) Mon Valley Works (MVW) Clairton Plant that have contributed to reductions of PM2.5 levels in the Allegheny County Area between 2011 and 2017. Some of these controls were required by consent order and agreements entered into between ACHD and USS in 2007 and in 2008 (later amended in 2010 and 2011). The USS Clairton Plant requires permits to operate (operating permit) and to install new equipment or expand operations (installation permits). These consent order and agreements were incorporated by reference into installation permits for the C Coke Battery (IP #0052-I011) and Quench Towers 5A and 7A (IP #0052-I014a). The USS Clairton Plant's title V operating permit (OP #0052) incorporates conditions from the installation permits and other applicable regulations. These permits are federally enforceable under 40 CFR 52.2020. Controls specific to the USS Clairton Plant that contributed to reduction in PM2.5 levels for the 2012 annual PM2.5 NAAQS are as follows:

• 25 heating walls for Coke Battery 19 were replaced in 2012.

• The title V permit (OP #0052) issued in 2012 included baffle washing and maintenance requirements at all quench towers.³¹

³¹ These source control requirements were also approved into the SIP as part of source specific RACT controls for the 2008 8-hour ozone NAAQS (86 FR 58223, October 21, 2021), which requires quench towers at the USS Clairton Plant to comply with the quench tower work practice standards, and operation and maintenance requirements of NESHAP 40 CFR part 63, subpart CCCCC, including daily baffle washing.

• New low-emission Quench Towers 5A and 7A were installed for Coke Batteries 13-15 and 19-20, respectively, in 2013.

• A new Screening Station #4 was installed as a replacement to Screening Station #3 in 2013.

In addition to the controls implemented at the USS Clairton Plant, ACHD identified several implemented controls at other major point source facilities in Allegheny County during the timeframe of 2011 to 2017 that contributed to reduction of PM2.5 and precursor emissions throughout Allegheny County.

• The GenOn Cheswick power plant installed a flue gas desulfurization (FGD) system in 2010 (IP #0054-I004), with full system operation started in mid-2011.³²

³² ACHD notes this source has now permanently ceased operations.

• In 2013, The ATI Flat Rolled Products (Allegheny Ludlum) specialty steel-making facility in Harrison Township installed a new Hot Rolling Processing Facility (HRPF) at the plant (IP #0062-I008), along with a consolidation of melt shops in 2011 (IP #0062-I007).

• The McConway & Torley steel foundry completed several modifications since 2011, including a new electric arc furnace, new baghouses, and new ladle preheater burners (IP #0275-I007, I008, I011, I013).

• The Bay Valley food manufacturing facility permanently switched from coal to natural gas fuel for all boilers in 2015 (IP #0079-I005).³³

³³ ACHD notes this source has now permanently ceased operations.

ACHD states that when a source permanently ceases all operations, the corresponding operating permit becomes inactive, either by termination or expiration. After a permit is inactive, any future operation at the source property requires a new permit application along with new source review (NSR). ACHD notes that enforcement staff conduct follow-up inspections at these sources to ensure continued inactivity and/or demolition at these properties. ACHD identified the following major point source facilities in Allegheny County that have permanently retired during the timeframe of 2011 to 2017, with their permits terminated or expired:

• ACN container facility (ceased operations in 2013);

• Guardian glass plant (ceased operations in 2015); and

• Shenango coke plant (ceased operations in 2016).

ACHD identified Federal and State rules and regulations that have contributed to PM2.5 and precursor emission reductions throughout Allegheny County during the 2011 to 2017 timeframe, including:

• Greenhouse Gas Emissions and Fuel Efficiency Standards for Medium- and Heavy-Duty Engines and Vehicles (Phase 1); ³⁴

³⁴ See 76 FR 57106 (September 15, 2011).

• Final Rule for Model Year 2012-2016 Light-Duty Vehicle Greenhouse Gas Emission Standards and Corporate Average Fuel Economy Standards; ³⁵

³⁵ See 75 FR 25324 (May 7, 2010).

• Standards of Performance for New Residential Wood Heaters, New Residential Hydronic Heaters and Forced-Air Furnaces; ³⁶

³⁶ See 80 FR 13672 (March 16, 2015).

• National Emission Standards for Hazardous Air Pollutants for Area Sources: Industrial, Commercial, and Institutional Boilers; ³⁷

³⁷ See 78 FR 7488 (February 1, 2013).

• National Emission Standards for Hazardous Air Pollutants for Reciprocating Internal Combustion Engines; New Source Performance Standards for Stationary Internal Combustion Engines; ³⁸

³⁸ See 78 FR 6674 (January 30, 2013).

• Commercial and Industrial Solid Waste Incineration Units: Reconsideration and Final Amendments; ³⁹

³⁹ See 78 FR 9112 (February 7, 2013).

• Control of Air Pollution from Motor Vehicles: Tier 3 Motor Vehicle Emission and Fuel Standards; ⁴⁰

⁴⁰ See 79 FR 23414 (April 28, 2014).

• Cross-State Air Pollution Rule (CSAPR) Allowance Allocations, Groups 1 and 2; ⁴¹

⁴¹ EPA CSAPR: www.epa.gov/Cross-State-Air-Pollution/csapr-allowance-allocations.

• PA Adhesives and Sealants Rule; ⁴² and

⁴² See 77 FR 59090 (September 26, 2012).

• PA Fuel Oil Sulfur Limits Rule.⁴³

⁴³ See 79 FR 39330 (July 10, 2014).

In addition, ACHD provided an analysis to demonstrate that the improvement in air quality for the Allegheny County Area was not due to unusually favorable meteorology. The analysis was based on 14 years of meteorological data collected at the Liberty monitor (ID #420030064) and included frequency of temperature inversions, average temperature, and total precipitation. The Liberty site has historically been the highest-concentration PM2.5 site within the Allegheny County Area. ACHD identified that temperature inversions correlate with monitored PM2.5 concentrations at the Liberty monitor, and that a higher frequency of temperature inversions coincide with relatively higher measured PM2.5 concentrations. While variations in PM2.5 concentrations from year-to-year correlate with the frequency of temperature inversions, ACHD identified that both annual weighted mean and 24-hour 98th percentile concentrations at the Liberty monitor have declined throughout the timeframe while the average frequency of inversions remained similar throughout the period, indicating that the reductions are due to emissions control and not unusually favorable meteorology due to temperature inversions.

ACHD identified that temperature and precipitation can also affect formation of PM2.5. Higher temperatures are typically associated with higher concentrations of PM2.5 since higher temperature can be more favorable for PM2.5 precursors. ACHD notes that 2024 was the warmest year recorded in Allegheny County dating back to 1895, and 2012 and 2023 were also in the top five warmest. However, both the short-term and long-term PM2.5 concentrations decreased over the 2011 to 2024 timeframe, indicating reductions in PM2.5 concentrations are not due to favorable temperatures. ACHD additionally determined that, while years 2018 and 2019 may have seen a reduction in PM2.5 due to wet deposition, the measured overall decrease in PM2.5 over the 2011 to 2024 timeframe was not likely due to favorable precipitation.

Based upon the previously listed actions by ACHD, the EPA finds that the improvement in air quality in the Allegheny County Area is the result of permanent and enforceable emissions reductions, satisfying CAA section 107(d)(3)(E)(iii).

D. Fully Approved Maintenance Plan

As one of the criteria for redesignation to attainment, section 107(d)(3)(E)(iv) of the CAA requires the EPA to determine that the area has a fully approved maintenance plan pursuant to section 175A of the CAA. Section 175A of the CAA sets forth the elements of a maintenance plan for areas seeking redesignation from nonattainment to attainment. Under CAA section 175A, the maintenance plan must demonstrate continued attainment of the NAAQS for at least 10 years after the Administrator approves a redesignation to attainment. Eight years after the redesignation, the state must submit a revised maintenance plan which demonstrates that attainment of the NAAQS will continue for an additional 10 years beyond the initial 10-year maintenance period. To address the possibility of future NAAQS violations, the maintenance plan must contain contingency measures, as the EPA deems necessary, to assure prompt correction of the future NAAQS violation. The Calcagni memorandum provides further guidance on the content of a maintenance plan, explaining that a maintenance plan should address five elements: (1) an attainment emission inventory; (2) a maintenance demonstration; (3) a commitment for continued air quality monitoring; (4) a process for verification of continued attainment; and (5) a contingency plan.

In conjunction with the request to redesignate the Liberty-Clairton, Pennsylvania nonattainment area (Liberty-Clairton Area) to attainment for the 1997 annual and 2006 24-hour PM2.5 NAAQS, Pennsylvania submitted, as a revision to the Pennsylvania SIP, a plan to provide maintenance of the 2012 annual PM2.5 NAAQS for the Allegheny County Area through 2035. On July 24, 2025 (90 FR 34770), the EPA approved Pennsylvania's maintenance plan for the Allegheny County Area as a revision to Pennsylvania's SIP. Therefore, the EPA finds that Pennsylvania has satisfied the maintenance plan requirement of CAA section 107(d)(3)(E)(iv) for redesignation to attainment of the Allegheny County Area for the 2012 annual PM2.5 NAAQS.

V. Proposed Actions

The EPA is proposing to approve Pennsylvania's September 4, 2025 request to redesignate the Allegheny County Area from nonattainment to attainment for the 2012 annual PM2.5 NAAQS. The EPA has evaluated Pennsylvania's redesignation request and determined that the Allegheny County Area has met the redesignation criteria set forth in section 107(d)(3)(E) of the CAA. The monitoring data demonstrates that the Allegheny County Area attained, as determined by the EPA in a prior rulemaking, and for reasons discussed herein, continues to attain the NAAQS. Final approval of this redesignation request would change the designation of the Allegheny County Area from nonattainment to attainment for the 2012 annual PM2.5 NAAQS. The EPA is soliciting public comments on the issues discussed in this document. These comments will be considered before taking final action.

VI. Statutory and Executive Order Reviews

Under the CAA, the redesignation of an area to attainment is an action that affects the status of a geographical area and does not impose any additional regulatory requirements on sources beyond those required by state law. A redesignation to attainment does not in and of itself impose any new requirements, but rather results in the application of requirements contained in the CAA for areas that have been redesignated to attainment. For that reason, this proposed action:

• Is not a significant regulatory action subject to review by the Office of Management and Budget under Executive Orders 12866 (58 FR 51735, October 4, 1993);

• Executive Order 14192 (90 FR 9065, February 6, 2025) does not apply because this action is exempt from review under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001); and

• Is not subject to requirements of Section 12(d) of the National Technology Transfer and Advancement Act of 1995 (15 U.S.C. 272 note) because application of those requirements would be inconsistent with the Clean Air Act;

In addition, this proposed redesignation of the Allegheny County Area to attainment of the 2012 annual PM2.5 NAAQS does not have tribal implications as specified by Executive Order 13175 (65 FR 67249, November 9, 2000), because this action is not approved to apply in Indian country located in the State, and the EPA notes that it will not impose substantial direct costs on tribal governments or preempt tribal law.

List of Subjects in 40 CFR Part 81

Environmental protection, Air pollution control, Carbon monoxide, Intergovernmental relations, Lead, Nitrogen dioxide, Ozone, Particulate matter, Reporting and recordkeeping requirements, Sulfur oxides, Volatile organic compounds.

Amy Van Blarcom-Lackey,
Regional Administrator, Region III.

[FR Doc. 2025-20409 Filed 11-19-25; 8:45 am]

BILLING CODE 6560-50-P